DEPARTMENT OF VETERANS AFFAIRS

Advisory Committee on Prosthetics and Special-Disabilities Programs; Notice of Meeting

The Department of Veterans Affairs (VA) gives notice under Public Law 92-463 that a meeting of the Advisory Committee on Prosthetics and Special-Disabilities Programs will be held May 15-16, 2002, at VA Headquarters, Room 230, 810 Vermont Avenue, NW., Washington, DC. The meeting will convene at 8 a.m. on both days and adjourn at 4 p.m. on May 15 and 12 noon on May 16. The meeting is open to the public.

The purpose of the Committee is to advise the Secretary on VA's prosthetic programs designed to provide state-of-the-art prosthetics and the associated rehabilitation research, development, and evaluation of such technology. The Committee also advises the Secretary on special disability programs which are defined as any program administered by the Department to serve veterans with spinal cord injury, blindness or vision impairment, loss of or loss of use of extremities, deafness or hearing impairment, or other serious incapacities in terms of daily life functions.

The morning of May 15, the Committee will have briefings by the Acting Chief Consultant, VHA Employee Education Service or designee, and the Director, Capital Asset Realignment for Enhanced Services Program or designee. In the afternoon, the Committee will be briefed by each of the four National program Directors of VA's special disability programs, i.e. spinal cord injury, blind rehabilitation, prosthetics, audiology and speech pathology. On the morning of May 16, the Committee will be briefed by the Acting Chief Consultant, Rehabilitation Strategic Healthcare Group and consider a report on Emergency Preparedness.

No time will be allocated for receiving oral presentations from the public. However, members of the public may direct questions or submit prepared statements for review by the Committee in advance of the meeting, in writing only, to Ms. Cynthia Wade, Program Analyst, at Department of Veterans Affairs, Veterans Health Administration, Patient Care Services, Rehabilitation Strategic Healthcare Group (117), 810 Vermont Avenue, NW., Washington, DC 20420. Any member of the public wishing to attend the meeting should contact Ms. Wade, at (202) 273-8485.

Dated: April 22, 2002.
Nora E. Egan,
Committee Management Officer.

[FR Doc. 02-10420 Filed 4-26-02; 8:45 am]

BILLING CODE 8320-01-M